DEPARTMENT OF HOMELAND SECURITY

Coast Guard

33 CFR Part 165

[Docket Number USCG-2018-0532]

RIN 1625-ZA38

Navigation and Navigable Waters, and Shipping; Technical, Organizational, and Conforming Amendments for U.S. Coast Guard Field District 1; Correction

AGENCY: Coast Guard, DHS.

ACTION: Final rule; correction.

SUMMARY: The Coast Guard is correcting a final rule that appeared in the Federal Register on January 31, 2020. The final rule announced technical changes to local regulated navigation areas, special local regulations, safety zones and security zones within District 1 of the U.S. Coast Guard. The rule has an effective date of March 2, 2020. This correction fixes an incorrect table entry number in the amendatory instructions of the final rule for an entry related to safety zones, fireworks displays, air shows and swim events in the Captain of the Port Long Island Sound Zone.

DATES: This correction is effective on March 2, 2020.

FOR FURTHER INFORMATION CONTACT: If you have questions on this rule, call or email Craig D. Lapiejko, Coast Guard; telephone (617) 223-8351, email Craig.D.Lapiejko@uscg.mil.

SUPPLEMENTARY INFORMATION:

Correction

In FR Doc. 2020-01294 appearing on page 5570 in the Federal Register of Friday, January 31, 2020, the following correction is made:

§ 165.151 [Corrected]

On page 5570, in the first column, in part 165, in amendment 6.c., “7.48” is corrected to read “7.49”.

Dated: February 19, 2019.
M.W. Mumbach,
Chief, Office of Regulations and Administrative Law, U.S. Coast Guard.

[FR Doc. 2020-03586 Filed 2-26-20; 8:45 am]

BILLING CODE 9110-04-P